FEDERAL COMMUNICATIONS COMMISSION

Sunshine Act Meeting; Open Commission Meeting; Thursday, January 15, 2009

January 8, 2009.

The Federal Communications Commission will hold an Open Meeting on the subjects listed below on Thursday, January 15, 2009, which is scheduled to commence at 10 a.m. in Room TW-C305, at 445 12th Street, SW., Washington, DC. With regard to item 1, the Commission is waiving the sunshine period prohibition contained in section 1.1203 of the Commission's rules, 47 CFR 1.1203, until 5:30 pm, Friday, January 9, 2009. Thus presentations with respect to item 1 will be permitted until that time.

The Meeting also will include presentations by senior agency officials regarding implementations of the agency's strategic plan and a comprehensive review of FCC policies and procedures.

Item No. | Bureau | Subject
1 | Media | Title: Implementation of Short-term Analog Flash and Emergency Readiness Act; Establishment of DTV Transition “Analog Nightlight” Program (MB Docket No. 08-255)
|  | Summary: The Commission will consider a Report and Order to implement the Short-term Analog Flash and Emergency Readiness Act.
2 | OMD | Title: FY 2008 Senior Executive Service Performance Rating, Bonus, and Pay Increase Recommendations.
|  | Summary: The Commission will consider annual performance awards for career Senior Executive Service personnel.

Presentations will be made in four panels:

• Panel One will feature the Managing Director and the Chief of the Wireline Competition Bureau.

• Panel Two will feature the Chiefs of the Media Bureau and the Consumer & Governmental Affairs Bureau.

• Panel Three will feature the Chiefs of the Public Safety and Homeland Security Bureau, Wireless Telecommunications Bureau, and the Office of Engineering and Technology.

• Panel Four will feature the Chiefs of the International Bureau and the Enforcement Bureau.

The meeting site is fully accessible to people using wheelchairs or other mobility aids. Sign language interpreters, open captioning, and assistive listening devices will be provided on site. Other reasonable accommodations for people with disabilities are available upon request. Include a description of the accommodation you will need. Also include a way we can contact you if we need more information. Last minute requests will be accepted, but may be impossible to fill. Send an e-mail to: fcc504@fcc.gov or call the Consumer & Governmental Affairs Bureau at 202-418-0530 (voice), 202-418-0432 (tty).

Additional information concerning this meeting may be obtained from Audrey Spivack or David Fiske, Office of Media Relations, (202) 418-0500; TTY 1-888-835-5322. Audio/Video coverage of the meeting will be broadcast live with open captioning over the Internet from the FCC's Audio/Video Events Web page at http://www.fcc.gov/realaudio.

For a fee this meeting can be viewed live over George Mason University's Capitol Connection. The Capitol Connection also will carry the meeting live via the Internet. To purchase these services call (703) 993-3100 or go to http://www.capitolconnection.gmu.edu.

Copies of materials adopted at this meeting can be purchased from the FCC's duplicating contractor, Best Copy and Printing, Inc. (202) 488-5300; Fax (202) 488-5563; TTY (202) 488-5562. These copies are available in paper format and alternative media, including large print/type; digital disk; and audio and video tape. Best Copy and Printing, Inc. may be reached by e-mail at FCC@BCPIWEB.com.

Federal Communications Commission.
Marlene H. Dortch,
Secretary.

[FR Doc. E9-619 Filed 1-9-09; 4:15 pm]

BILLING CODE 6712-01-P